FEDERAL COMMUNICATIONS COMMISSION

47 CFR Part 73

[MB Docket No. 21-59; RM-11883; DA 21-396; FR ID 20482]

Television Broadcasting Services; Corpus Christi, Texas

AGENCY: Federal Communications Commission.

ACTION: Final rule.

SUMMARY: The Media Bureau, Video Division (Bureau) has before it a Notice of Proposed Rulemaking issued in response to a petition for rulemaking filed by Scripps Broadcasting Holding, LLC (Scripps), the licensee of KRIS-TV, channel 13 (NBC), Corpus Christi, Texas, requesting the substitution of channel 26 for channel 13 at Corpus Christi in the DTV Table of Allotments. For the reasons set forth in the Report and Order referenced below, the Bureau amends FCC regulations to substitute channel 26 for channel 13 at Corpus Christi.

DATES: Effective April 23, 2021.

FOR FURTHER INFORMATION CONTACT: Joyce Bernstein, Media Bureau, at (202) 418-1647 or Joyce.Bernstein@fcc.gov.

SUPPLEMENTARY INFORMATION: The proposed rule was published at 86 FR 12162 on March 2, 2021. Scripps filed comments in support of the petition reaffirming its commitment to applying for channel 26. No other parties filed comments. The Bureau believes the public interest would be served by the substitution and will permit KRIS-TV to better serve its viewers, who have experienced reception problems with VHF channel 13. While there is a small terrain limited predicted loss area when comparing the licensed channel 13 and the proposed channel 26 facilities, all but 15 people living within the predicted loss area will continue to be well served, a number which the Commission has recognized as de minimis. Finally, the timing of the channel change is important because in April 2020, high winds caused the tower supporting the KRIS-TV antenna to collapse, taking the station silent, and Scripps would prefer to build out a new UHF facility which can significantly improve the off-air reception of KRIS-TV, rather than replace the VHF facility.

This is a synopsis of the Commission's Report and Order, MB Docket No. 21-59; RM-11883; DA 21-396, adopted April 4, 2021, and released April 4, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622(i), amend the Post-Transition Table of DTV Allotments, under Texas, by revising the entry for Corpus Christi to read as follows:

§ 73.622 Digital television table of allotments.

* * * * *

(i) * * *

Community | Channel No.
* * * * *
TEXAS
* * * * *
Corpus Christi | 8, 10, *23, 26, 27, 38
* * * * *

[FR Doc. 2021-08370 Filed 4-22-21; 8:45 am]

BILLING CODE 6712-01-P